DEPARTMENT OF THE INTERIOR

Fish and Wildlife Service

[Docket No. FWS-R1-ES-2018-0095]; [FXES11140100000-190-FF01E00000]

Final Environmental Impact Statement and Final Habitat Conservation Plan for the Skookumchuck Wind Energy Project, Lewis and Thurston Counties, Washington; Correction

AGENCY: Fish and Wildlife Service, Interior.

ACTION: Notice of availability; correction.

SUMMARY: On May 31, 2019, we, the U.S. Fish and Wildlife Service, announced via a Federal Register notice the availability of a final environmental impact statement (EIS) and a final habitat conservation plan addressing the Skookumchuck Wind Energy Project in Lewis and Thurston Counties, Washington. The Skookumchuck Wind Energy Project LLC is requesting an incidental take permit (ITP) covering the take of one threatened species listed under the Endangered Species Act, and two non-listed federally protected species. The final EIS has been prepared in response to the ITP application in accordance with the requirements of the National Environmental Policy Act. Our Federal Register notice inadvertently did not give the correct docket number for the public to use to find the announced documents online. In this notice, we correct that error.

DATES: The Service's ITP decision will occur no sooner than 30 days after publication of the U.S. Environmental Protection Agency's notice of the final EIS in the Federal Register, and will be documented in a record of decision.

ADDRESSES: You may obtain copies of the documents by any of the following methods:

• Internet: http://www.regulations.gov under Docket No. FWS-R1-ES-2018-0095 or https://www.fws.gov/wafwo/.

• Upon Request: You may call Curtis Tanner at 360-753-4326 to request alternative formats of the documents or make an appointment to inspect the documents during normal business hours at the U.S. Fish and Wildlife Service, Washington Fish and Wildlife Office, 510 Desmond Dr. SE, Suite 102, Lacey, WA 98503.

FOR FURTHER INFORMATION CONTACT: Curtis Tanner, U.S. Fish and Wildlife Service, Washington Fish and Wildlife Office (see ADDRESSES); telephone: 360-753-4326; email: Curtis_Tanner@fws.gov. Hearing- or speech-impaired individuals may call the Federal Relay Service at 800-877-8339 for TTY assistance.

SUPPLEMENTARY INFORMATION: On May 31, 2019, we, the U.S. Fish and Wildlife Service (Service), announced the availability of a final environmental impact statement and a final habitat conservation plan addressing the Skookumchuck Wind Energy Project (project) in Lewis and Thurston Counties, Washington (84 FR 25299). The Skookumchuck Wind Energy Project LLC is requesting an incidental take permit covering the take of the marbled murrelet (Brachyramphus marmoratus), bald eagle (Haliaeetus leucocephalus), and golden eagle (Aquila chrysaetos) likely to be caused by the operation of the project over a 30-year period.

The murrelet is listed as threatened under the Endangered Species Act of 1973, as amended (ESA; 16 U.S.C. 1531 et seq.). Bald and golden eagles are protected under the Bald and Golden Eagle Protection Act (16 U.S.C. 668-668d).

Corrections

In our May 31, 2019, notice (84 FR 25299), we did not provide the correct docket number in https://www.regulations.gov/ for the public to use to access the documents announced by that notice. The correct docket number is Docket No. FWS-R1-ES-2018-0095. Our ADDRESSES section above has been corrected accordingly. We regret any inconvenience caused by this error.

Authority

We provide this notice in accordance with the requirements of section 10(c) of the ESA and its implementing regulations (50 CFR 17.22 and 17.32) and NEPA and its implementing regulations (40 CFR 1506.6).

Dated: May 31, 2019.
Sara Prigan,
Federal Register Liaison, U.S. Fish and Wildlife Service.

[FR Doc. 2019-11788 Filed 6-5-19; 8:45 am]

BILLING CODE 4333-15-P